DEPARTMENT OF JUSTICE

Notice of Lodging of Proposed Consent Decree Under the Comprehensive Environmental Response, Compensation, and Liability Act

On February 19, 2014, the Department of Justice lodged a proposed Consent Decree with the United States District Court for the District of Montana, Billings Division, in the lawsuit entitled United States v. Big Sky Linen Supply, Inc.; Billings Laundry Company, Civil Action No. 1:14-cv-00017-SPW-CSO.

The Consent Decree resolves claims alleged by the United States on behalf of the United States Environmental Protection Agency (“EPA”) pursuant to Section 107 of the Comprehensive Environmental Response, Compensation, and Liability Act of 1980, as amended (“CERCLA”), 42 U.S.C. 9607. The United States' Complaint asserts claims against Big Sky Linen Supply, Inc. and Billings Laundry Company (collectively, “Defendants”), and seeks recovery of unreimbursed costs incurred by EPA for response actions taken at or in connection with the release or threatened release of hazardous substances at the Billings PCE Site (“the Site”) in Billings, Yellowstone County, Montana.

Under the proposed Consent Decree, Big Sky Linen Supply, Inc., the operator of the Site, and Billings Laundry Company, the owner of the Site, will pay a total of $825,000 to the Billings PCE Site Special Account, in reimbursement of EPA's past response costs incurred through the date of entry of the Consent Decree. This amount was determined based on an analysis of Defendants' ability to pay, and includes payment from two sources: (1) Defendants' assessed ability to pay ($120,000), and (2) proceeds from an insurance settlement involving certain historic insurance policies ($705,000).

The publication of this notice opens a period for public comment on the proposed Consent Decree. Comments should be addressed to the Assistant Attorney General, Environment and Natural Resources Division, and should refer to United States v. Big Sky Linen Supply, Inc.; Billings Laundry Company, D.J. Ref. No. 90-11-3-09585. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may also be examined and downloaded at this Justice Department Web site: http://www.usdoj.gov/enrd/Consent_Decrees.html. We will provide a paper copy of the proposed Consent Decree upon written request and payment of reproduction costs. Please mail your request and payment to: Consent Decree Library, U.S. DOJ—ENRD, P.O. Box 7611, Washington, DC 20044-7611.

Please enclose a check or money order for $14.50 (25 cents per page reproduction cost) payable to the United States Treasury. For a paper copy without the exhibits and signature pages, the cost is $10.50.

Robert D. Brook,
Assistant Chief, Environmental Enforcement Section, Environment and Natural Resources Division.

[FR Doc. 2014-03966 Filed 2-24-14; 8:45 am]

BILLING CODE 4410-15-P